DEPARTMENT OF DEFENSE

Department of the Army, Corps of Engineers

Availability of a Draft Environmental Impact Statement to Consider Issuance of a Department of the Army Permit Pursuant to Section 404 of the Clean Water Act for Aluminum Company of America (Alcoa) Inc.'s Proposal To Construct and Operate Three Oaks Mine in Lee and Bastrop Counties, TX

AGENCY: Department of the Army, U.S. Army Corps of Engineers, DoD.

ACTION: Notice of availability.

SUMMARY: In accordance with the requirements of the National Environmental Policy Act (NEPA), the U.S. Army Corps of Engineers (USACE) Fort Worth District has prepared a Draft Environmental Impact Statement (DEIS). This DEIS evaluates potential impacts to the natural, physical and human environment as a result of the proposed mining activities associated with Aluminum Company of America (Alcoa) Inc.'s proposed Three Oaks Mine. The USACE regulates this proposed project pursuant to Section 404 of the Clean Water Act. The proposed activity would involve the discharge of dredged and fill material into waters of the United States associated with the proposed construction and operation of a surface lignite mine.

DATES: Submit comments by October 22, 2002. A public hearing regarding this DEIS will be held on October 2, 2002 (see SUPPLEMENTARY INFORMATION).

ADDRESSES: Send written comments and suggestions concerning this proposal to Ms. Jennifer Walker, Regulatory Project Manager, Regulatory Branch, CESWF-PER-R, U.S. Army Corps of Engineers, Fort Worth District, P.O. Box 17300, Fort Worth, TX 76102-0300 or via e-mail: 3oakseis@swf02.usace.army.mil. Requests to be placed on the mailing list should also be sent to this address.

FOR FURTHER INFORMATION CONTACT: Ms. Jennifer Walker, Regulatory Project Manager at (817) 886-1733 or via e-mail: 3oakseis@swf02.usace.army.mil.

SUPPLEMENTARY INFORMATION: Discharges of fill material into waters of the United States are regulated under Section 404 of the Clean Water Act, with the permitting responsibility administered by the USACE. The proposed project must also address environmental impacts relative to the Clean Air Act, Clean Water Act, Endangered Species Act and the Fish and Wildlife Coordination Act (FWCA). In accordance with the NEPA, the DEIS evaluates practicable alternatives for the USACE's decision making process. As required by NEPA, the USACE also analyzes the “no action” alternative as a baseline for gauging potential impacts.

As part of the public involvement process, notice is hereby given by the USACE Fort Worth District of a public hearing to be held at the Elgin High School, in Elgin, Bastrop County, TX, from 6:30 to 10 p.m., on October 2, 2002. The public hearing will allow participants the opportunity to comment on the DEIS prepared for the proposed Three Oaks Mine. Written comments should be sent to Ms. Jennifer Walker (see addresses). The comments are due 60 days from the date of publication of this notice. Copies of the DEIS may be obtained by contacting USACE Fort Worth District Regulatory Branch at (817) 886-1731 or printed from the Fort Worth District USACE Internet home page at http://www.swf.usace.army.mil.

Copies of the DEIS are also available for inspection at the locations identified below:

(1) Bastrop City Hall, 902 Main Street, Bastrop, TX 78602.

(2) Lexington City Hall, P.O. Box 56, Lexington, TX 78947.

(3) Austin City Hall, 124 West 8th Street, P.O. Box 1088, Austin, TX 78767.

(4) Rockdale City Hall, P.O. Box 586, Rockdale, TX 76567.

(5) Elgin City Hall, P.O. Box 591, Elgin, TX 78621.

(6) Giddings City Hall, 118 E. Richmond Street, Giddings, TX 78942.

(7) Lee County Courthouse, P.O. Box 390, Giddings, TX, 78942.

(8) Milam County Courthouse, P.O. Box 1008, Cameron, TX 76520.

(9) Bastrop County Courthouse, 804 Pecan Street, Bastrop, TX 78602.

(10) Travis County Courthouse, 1000 Guadalupe Street, P.O. Box 1748, Austin, TX 78767.

(11) City of Austin Library—Milwood Branch, 12500 Amherst Drive, Austin, TX 78727.

(12) City of Austin Library—John Henry Faulk Branch, 800 Guadalupe, Austin, TX 78701.

(13) City of Austin Library—Will Hampton at Oak Hill Branch, 5125 Convict Hill Road, Austin, TX 78749.

(14) City of Bastrop Public Library, 1100 Church Street, Bastrop, TX 78602.

(15) City of Elgin Public Library, 404 North Main Street, Elgin, TX 78621.

(16) City of Giddings Public Library, 177 South Madison Street, Giddings, TX 78942.

(17) City of Rockdale Public Library, 201 Ackerman Street, Rockdale, TX 76567.

After the public comment period ends, USACE will consider all comments received, revise the DEIS as appropriate, and issue a final Environmental Impact Statement.

Wayne A. Lea,
Chief, Regulatory Branch.

[FR Doc. 02-21307 Filed 8-22-02; 8:45 am]

BILLING CODE 3710-20-M